DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 85 FR 30106-30708, dated May 20, 2020) is amended to reflect the reorganization of the National Center for Injury Prevention and Control, Deputy Director for Non-Infectious Diseases, Centers for Disease Control and Prevention.

I. Under Part C, Section C-B, Organization and Functions, the following organizational unit is deleted in its entirety:

• Office of Policy and Partnerships (CUH12)

• Office of Program Management and Operations (CUH13)

• Office of Communication (CUH14)

• Office of Science (CUH17)

• Office of Strategy and Innovation (CUH18)

• Office of Informatics (CUH19)

II. Under Part C, Section C-B, Organization and Functions, make the following change:

• Update the functional statements for the Office of the Director (CUH1)

• Establish the Office of the Deputy Director (CUH1B)

• Establish the Office of Science (CUH1B2)

• Establish the Office of Strategy and Innovation (CUH1B3)

• Establish the Office of Informatics (CUH1B4)

• Establish the Office of the Deputy Director for Management and Operations (CUH1C)

• Establish the Office of Policy and Partnerships (CUH1C2)

• Establish the Office of Program Management and Operations (CUH1C3)

• Establish the Office of Communications (CUH1C4)

• Update the functional statements for the Division of Violence Prevention (CUHC)

• Update the functional statements for the Office of the Director (CUHC1)

• Update the functional statements for the Surveillance Branch (CUHCB)

• Update the functional statements for the Office of the Director (CUHF1)

• Retitle the Applied Science Branch (CUHFB) to the Applied Sciences Branch (CUH)

• Update the functional statements for the Program Implementation and Evaluation Branch (CUHFC)

• Update the functional statement for the Data Analytics Branch (CUHFD)

• Update the functional statements for the Office of the Director (CUHG1)

• Establish the Drug-Free Communities Branch (CUHGE)

• Establish the Communications Branch (CUHGG)

III. Under Part C, Section C-B, Organization and Functions, insert the following:

• Office of the Director (CUH1). (1) Manages, directs, coordinates, and evaluates NCIPC activities; (2) provides administrative support, program management, and fiscal services to the Center; (3) provides overall guidance and support for Center-wide grant activities; (4) consults and coordinates activities with medical, engineering, and other scientific and professional organizations interested in injury prevention and control; (5) coordinates National Center for Injury Prevention and Control (NCIPC) program activities with other CDC components, other Public Health Service (PHS) agencies, PHS regional offices, other federal agencies, state and local health departments, community-based organizations, business and industry; (6) coordinates technical assistance to other nations and international organizations in establishing and implementing injury prevention and control programs; (7) develops goals and objectives and provides leadership, policy formation, scientific oversight, and guidance in program planning and development; (8) directs and coordinates information resources management activities, the production and distribution of technical and nontechnical injury prevention and control publications and information, and the conduct of health education and health promotion activities, (9) coordinates and provides guidance on information technology and informatics solutions, compliance, and governance, and; (10) supports the activities of the Secretary's Advisory Committee for Injury Prevention and Control.

• Office of the Deputy Director (CUH1B). (1) Provides overall leadership, oversees, directs, coordinates and evaluates science and health-related activities for NCIPC priority programs and research agenda; (2) provides leadership for implementing public health statutory responsibilities; (3) provides overall executive coordination for research programs and science policies for the Center; (4) maintains liaison with other Federal, State, and local agencies, institutions, and organizations; (5) coordinates program activities with other CDC components, other Federal, State and local Government agencies, the private sector; (6) coordinates Center public health science efforts to protect the public's health; (7) develops capacity within the states to integrate new and existing epidemiological and scientific principles into operational and programmatic expertise within NCIPC programs; (8) utilizes best practices to collect, analyze, and interpret data and disseminate scientific information to enable internal and external partners to make actionable decisions; (9) supervises and provides analytical and modeling expertise, develops new analytical tools, and integrates the use of science into public health activities; (10) integrates science, data analytics and visualization into science products; (11) identifies, develops, and promotes new tools through authoring manuscripts, reports, and community-facing products as well as leveraging new technologies in order to maintain and improve NCIPC's state of the art science practice; (12) ensures NCIPC compliance with various statutes, regulations, and policies governing the conduct of science by the federal government; (13) coordinates NCIPC involvement in CDC public health ethics activities; (14) oversees NCIPC involvement in CDC science awards activities (e.g., the Shepard Awards); (15) oversees and sponsors select training opportunities (e.g., Human Subjects/IRB, OMB/PRA, and eClearance Training for Authors and Reviewers); (16) represents NCIPC on various CDC/ATSDR scientific committees, work groups, and task forces; (17) develops, directs, and coordinates management policies related to Informatics; (18) provides leadership and guidance in the development and implementation of goals, objectives, priorities, policies and program planning for Informatics operations; (19) oversees and enables strategic coordination across a range of injury and violence priority topics; (20) enhances collaboration on the Center's priorities, especially when cross-cutting in nature; (21) facilitates the advancement of innovative approaches to collecting and using data to inform injury and violence prevention through close engagement with NCIPC leaders, subject matter experts, and external partners; and (22) generates new ideas, research and disseminate best practices, and constructs a Center-wide strategy that can actively enable collaboration.

• Office of Science (CUH1B2). (1) Provides scientific leadership for the Center, and informs and guides staff on scientific matters; (2) ensures NCIPC produces the highest quality, most useful, and most relevant science possible; (3) leads the development of research priorities for the Center in collaboration with Divisions and Offices; (4) provides staff training on scientific topics, science policy, and regulations; (5) mentors scientists and fellows; (6) manages scientific clearance for NCIPC; (7) oversees and directs Institutional Review Board, Office of Management Budget-Paperwork Reduction Act, and Confidentiality activities for the Center; (8) conducts peer review of intramural research and scientific programs; (9) directs the Center's Open Data Access policy and assures scientists follow CDC's policies on data release and sharing; (10) facilitates scientific collaborations between external and internal investigators; (11) leads, manages, and oversees NCIPC's external advisory board; (12) leads Healthy People Activities in partnership with Divisions and Offices and coordinates, tracks, and assesses progress toward Healthy People objectives; (13) manages and coordinates Epidemic Intelligence Service Officer program and activities; (14) provides scientific leadership in the areas of extramural research supported by NCIPC, NCEH, and ATSDR; (15) promotes and prepares initiatives to stimulate extramural research in relevant priority areas; (16) directs all activities of the extramural research program to address priorities for NCIPC, NCEH, and ATSDR in partnership with the Division programs; (17) coordinates and conducts pre-award activities for grant management, in-depth external primary and secondary peer review of extramural research applications, recommends award selections to Divisions and Center Directors, and manages post-award activities; (18) ensures compliance with all regulations and policies governing extramural research programs, and; (19) disseminates and evaluates extramural research progress, findings, and impact.

• Office of Strategy and Innovation (CUH1B3). (1) Provides strategic leadership and coordination across a range of injury and violence topics with a focus on the NCIPC strategic priorities; (2) leads the advancement of innovative approaches to using data to inform injury and violence prevention; (3) develops, in collaboration with Divisions and Offices, the overall strategic goals and objectives for NCIPC and provides leadership to develop a plan of action to achieve these goals and objectives; (4) identifies strategic opportunities to collaborate with other Divisions/Offices in NCIPC, CDC CIOs, PHS Agencies, and other federal departments and Agencies, and governmental and private organizations to advance injury and violence prevention; (5) identifies emerging or cross-cutting injury and violence topics and works with other Divisions/Offices to support and advance action on them; (6) participates with Divisions and Offices in NCIPC to establish research priorities for the Center, and; (7) ensures NCIPC produces the highest quality, most useful, and most relevant science possible.

• Office of Informatics (CUH1B4). (1) Reports all IT project costs, schedules, performances, and risks; (2) provides expert consultation in application development, information science, and technology to affect the best use of resources; (3) performs technical evaluation and/or integrated baseline reviews of all information systems' products and services prior to procurement to ensure software purchases align with Center strategy; (4) coordinates all enterprise-wide IT security policies and procedures with the Office of the Chief Information Security Officer; (5) ensures operations are in accordance with CDC Capital Planning and Investment Control guidelines; (6) ensures adherence to CDC enterprise architecture policies, guidelines, and standards; (7) consults with Divisions and Offices to determine IT needs and to develop strategic and action plans; (8) participates in the evolution, identification, development, and/or adoption of appropriate informatics standards in conjunction with the Injury programs; (9) ensures coordination of data harmonization and systems interoperability within the Center and facilitates linkage to related CDC-wide strategies; (10) provides leadership in the Center's Information Resources Governance Council (IRGC) and coordination with CDC's IT and Data Governance (ITDG) Board; and (11) collaborates with other Divisions/Offices in NCIPC, CDC CIOs, PHS agencies, other federal departments and agencies, universities, NGOs, and private organizations as appropriate.

• Office of the Deputy Director for Management and Operations (CUH1C). (1) Provides leadership and guidance in the development and implementation of goals, objectives, priorities, policies, program planning, management and operations of all general activities within the Center; (2) oversees, manages, directs, coordinates, and evaluates all center management and operations activities; (3) coordinates with all Center offices and divisions in determining and interpreting operating policy and in ensuring their respective management input for specific program activity plans are included (4) provides leadership for implementing statutory and compliance responsibilities across the Center; (5) provides overall issue management, health policy and partnership development direction to the Center; (6) provides and directs overall internal and external communication strategies for the Center; (7) provides leadership for and assessment of all administrative management activities to assure coordination for all management and program matters, such as coordinating risk management and emergency response activities; (8) provides overall programmatic direction for planning and management oversight of allocated resources, human resource management and general administrative support; (9) directs and coordinates activities in support of the Department's Equal Employment Opportunity program, diversity enhancement and employee professional development opportunities; (10) reviews the effectiveness and efficiency of all administration and operations of NCIPC programs; (11) develops and directs employee engagement programs for the Center such as employee recognition programs; and (12) analyzes NCIPC workforce, succession, strategic planning systems, and resources on an ongoing basis.

• Office of Policy and Partnerships (CUH1C2). (1) Advises NCIPC and CDC leadership and staff on policy and partnership issues relevant to NCIPC; (2) conducts monitoring and analysis of policy issues potentially affecting NCIPC and its constituents; (3) coordinates partnership activities across NCIPC; (4) engages in partnerships with external organizations to meet mutual goals; (5) identifies and defines emerging or cross-cutting long-term policy issues and develops action plans that support and advance action; (6) manages issues proactively in order to minimize their negative effects, maximize their potential opportunities, and avoid the need for crisis management; (7) oversees and coordinates performance-related activities for NCIPC; (8) provides information for the development of NCIPC's annual budget submission and supporting documents; (9) provides liaison with staff Offices and other officials of CDC; (10) reviews, prepares, and coordinates policy and briefing documents, and; (11) leads and coordinates the Congressional strategy and outreach as informed by NCIPC and Agency priorities.

• Office of Program Management and Operations (CUH1C3). (1) Coordinates NCIPC-wide program, administrative, and management support services in the areas of fiscal management, personnel, travel, performance, FOIA, workforce planning, space, and other administrative services; (2) coordinates NCIPC requirements relating to contracts, grants, cooperative agreements, and reimbursable agreements; (3) manages annual budget formulation, budget justifications, and budget oversight; (4) develops and implements financial and administrative policies, procedures, and operations, as appropriate, for NCIPC, and prepares special reports and studies, as required; (5) maintains liaison with related Center staff and other officials of CDC, and; (6) plans, coordinates, and provides overall management support, advice, and guidance to NCIPC.

• Office of Communications (CUH1C4). (1) Coordinates and leads the implementation of CDC-wide communication initiatives and policies, including health literacy, plain language, and CDC branding; (2) executes web development for the NCIPC intranet and provides technical assistance and training to OD Offices in accessing and using NCIPC wiki for internal communication and information sharing; (3) facilitates cross-Division and cross-CIO coordination of health communication activities, sharing of lessons learned, and development of best practices; (4) in carrying out these functions, develops and manages relationships with a wide range of partners and customers, including other PHS agencies, federal and state departments and agencies, and private organizations; (5) leads and oversees news media strategy and evaluation, including news response, media monitoring, proactive media engagement, media training, and long lead pitching; (6) leads digital communication and marketing strategies and manages digital channels; (7) leads strategic planning for communications and branding programs and projects for NCIPC and injury and violence issues; (8) manages and coordinates clearance of NCIPC print and non-print materials, ensuring adherence to and consistency with CDC and Department of Health and Human Services (DHHS) information and publication policies and guidelines; (9) oversees, manages, and executes CDC web and digital governance through matrix management and work group structures; (10) provides communication support to OD offices and technical assistance and training in accessing centralized communication systems available through OADC and other offices; (11) provides ongoing communication leadership and support to NCIPC's Office of the Director and Divisions in furthering the Center's mission to prevent violence and unintentional injury and to reduce their consequences; (12) provides oversight and approval for CDC logo licensing requests from external partner organizations and involving NCIPC Divisions and programs; (13) represents NCIPC on cross-CIO and external committees, workgroups, and at conferences relating to health communication activities; (14) serves as primary liaison between NCIPC and CDC's Office of the Associate Director for Communication (OADC), and; (15) through matrix management, provides strategic communication direction and technical assistance across NCIPC to ensure all health communication activities are evidence-based and demonstrate impact.

• Division of Violence Prevention (CUHC). (1) Provides leadership in developing and executing a national program for the prevention and control of violence and its consequences; (2) plans, establishes, and evaluates surveillance systems to monitor national trends in morbidity, mortality, disabilities, and cost of violence-related injuries and deaths, and facilitates the development of surveillance systems by state and local agencies; (3) plans, directs, conducts, and supports research focused on the causes of violence and the development and evaluation of strategies to prevent and control violence-related injuries and deaths; (4) produces new, evidence-based scientific knowledge that informs policies, practice, and programs in the violence field; (5) plans, conducts, supports, and evaluates demonstration projects and programs to prevent and control violence; (6) develops and disseminates policies, recommendations, and guidelines for the prevention of violence and its consequences; (7) proposes goals and objectives for linking health system and violence control activities with public health activities, including surveillance, prevention, health care, and rehabilitation of injury; (8) proposes goals and objectives for national violence prevention and control programs, monitors progress toward these goals and objectives, and recommends and develops guidelines for priority prevention and control activities; (9) provides expertise in public health practice, surveillance, evaluation, and research for violence prevention; (10) provides technical assistance, consultation, training, and epidemiological, statistical, educational, and other technical services to assist state and local health departments and community-based organizations in the planning, development, implementation, evaluation, and overall improvement of violence prevention programs; (11) facilitates the development and supports the dissemination of research findings and transfer of violence prevention and control technologies to federal, state, and local agencies, private organizations, and other national and international groups; (12) sustains a public health infrastructure for violence prevention at federal, state, local, and tribal levels; (13) facilitates similar strategic planning activities by other federal, state, and local agencies, academic institutions, and private and other public organizations, and; (14) in carrying out the above functions, collaborates with other Divisions of NCIPC, CDC Centers/Institutes/Offices, DHHS agencies, other federal, state, and local departments and agencies, academic institutions, and voluntary, private sector, and international organizations, as appropriate.

• Office of the Director CUHC1). (1) Plans, directs, coordinates, and evaluates the activities of the Division; (2) establishes and interprets policies and determines program priorities; (3) provides administrative, fiscal, and technical support for Division programs and units; (4) provides national leadership and guidance in violence prevention and control program planning, development, and evaluation; (5) provides leadership for developing research in etiologic, epidemiologic, and behavioral aspects of violence prevention and control to inform policies, practice, and programs; (6) prepares and tracks responses and coordinates provision of materials requested by Congress and the DHHS; (7) prepares, tracks, and coordinates controlled and general correspondence; (8) assures multi-disciplinary collaboration in violence prevention and control activities; (9) collaborates with subject matter experts, program and policy staff, develops and implements communication strategies, campaigns, and plans to meet the needs of Division programs and mission; (10) coordinates with the NCIPC Office of Communications to execute and support NCIPC- and CDC-wide communication initiatives and policies; (11) develops tailored messages and materials to promote dissemination of scientific findings, evidence-based prevention strategies, priority recommendations, and guidelines through traditional media outlets, social media, and other channels; (12) provides consultation on international violence prevention and control activities of the Division; (13) in coordination with NCIPC OC, prepares and monitors clearance of manuscripts for publication in scientific and technical journals and publications, including articles and guidelines published in the Morbidity and Mortality Weekly Report (MMWR) and other publications for the public, and; (14) in carrying out the above functions, establishes linkages and collaborates, as appropriate, with other Divisions and Offices in NCIPC, with other CIOs throughout CDC, non-governmental organizations; and with national level prevention partners that impact on violence prevention programs.

• Surveillance Branch (CUHCB). (1) Conducts national, state, and local surveillance and surveys to identify new and to monitor recognized forms of violence and its consequences, analyzes incidence and prevalence data, and monitors trends in violence and its trajectory across the lifespan; (2) advises the Office of the Director, in DVP and NCIPC, on the area of data and systems management and on surveillance and statistical analysis issues relevant to violence program planning and evaluation; (3) coordinates, manages, maintains and provides tabulations and maps from national surveillance systems and other data sources that contain national, state and local data on violence-related morbidity, mortality and economic costs; (4) develops and implements uniform definitions for public health surveillance of various forms of violence and related outcomes; (5) provides leadership for the development of surveillance research to inform policies, practice, and programs in the violence field; (6) provides expert consultation to federal, state, and local health agencies on surveillance system design, implementation, and evaluation, and use of surveillance data to describe the burden of violence; (7) provides information on violence surveillance to the scientific community and the general public through regular publication in peer-reviewed journals and CDC publications as well as through presentations to professional conferences and other stakeholder groups; (8) works with other branches to provide consultation, collaboration, and to ensure the use of surveillance data to inform research and prevention efforts; (9) develops, designs, implements, and evaluates innovative surveillance strategies or systems that address gaps in existing CDC surveillance systems in collaboration with colleagues in NCIPC and other CIOs for application to overdose surveillance, epidemiologic studies, program evaluation, and programmatic activities, and; (10) in carrying out the above functions, provides leadership and collaborates with other Divisions and Offices in NCIPC, other CIOs throughout CDC, and Federal, state, local, non-governmental, voluntary, and professional, organizations in all aspects of surveillance of violence and its consequences.

• Office of the Director (CUHF1). (1) Plans, directs, coordinates, and evaluates the activities of the Division; (2) provides administrative, fiscal, and technical support for Division programs and units; (3) leads Division strategic planning and priority setting; oversees overall program performance, ensures scientific quality of activities, and implements operational policies to advance the Center and Agency mission; (4) collaborates with subject matter experts, program, and policy staff to develop strategic communication plans that meet Agency, Center, and Division priorities; (5) develops, implements, and evaluates communication strategies, campaigns, and materials to disseminate data and scientific findings, evidence-based prevention strategies, priority recommendations, programmatic successes, and guidelines through traditional and emerging communication channels; (6) develops and manages collaborative relationships with professional, community, international, governmental, and other non-governmental agencies, and tribal nations to advance injury prevention and control; (7) coordinates with the NCIPC Office of Policy and Partnerships to identify and proactively manage emerging policy issues; (8) advises Division staff on policy issues and coordinates with staff to prepare briefing materials; (9) collaborates with other NCIPC Divisions and Offices and other CIOs throughout CDC to effectively partner on critical injury prevention programs; (10) in coordination with NCIPC OC, prepares and monitors clearance of manuscripts for publication in scientific and technical journals and publications, including articles and guidelines published in the Morbidity and Mortality Weekly Report (MMWR) and other publications for the public; (11) prepares, tracks, and coordinates responses to all inquiries from Congress, the public, and DHHS, and; (12) provides leadership for the development of research to inform policies, practice, and programs in the injury field.

• Program Implementation and Evaluation Branch (CUHFC). (1) Coordinates and conducts research to examine the context, processes, and factors that influence effective and efficient adoption, implementation, dissemination, and sustainability of injury prevention strategies, policies, and interventions; (2) provides technical assistance and project officer support in applying research and evaluation to the ongoing assessment and improvement of injury prevention and control programs; (3) supports training and outreach to increase the number and competence of personnel engaged in injury prevention and control research and practices; (4) works with local, state, territorial, and tribal public health programs to advance the use of surveillance, effective injury prevention strategies, and ongoing quality improvement activities for program planning and implementation to decrease the burden of injury; (5) collaborates with internal and external partners to disseminate effective injury prevention strategies; (6) develops and evaluates methodologies for conducting program evaluation; (7) works to generate practice-informed research and synthesize research findings for program application; (8) monitors and evaluates programs and policies and disseminates findings to promote program accountability and program improvement; (9) promotes an enhanced and sustained infrastructure for a public health approach to injury and violence prevention at state, local, territorial and tribal levels; (10) identifies and drives opportunities for streamlining, coordinating, and maximizing the effectiveness of project officer and technical assistance activities to improve Center-wide support to external partners and grantees; (11) translates relevant research, evaluation findings, and other evidence into practical tools, products, and guidance that enhances injury prevention programs, strategies, and activities, and; (12) publishes the findings of programmatic evaluations in the peer-reviewed literature and other reports and participate in scientific and professional conferences.

• Data Analytics Branch (CUHFD). (1) Plans, establishes, and maintains surveillance systems to monitor national and state-level trends in morbidity, mortality, disabilities, and costs of injuries; (2) analyzes and translates data into information that is disseminated to stakeholders for program planning, evaluation, and decision-making; (3) collaborates with and advises other Divisions/Offices in NCIPC, CDC CIOs, and external partners on traditional and emerging statistical, economic, surveillance, and data science methods; (4) collaborates with the NCIPC Office of Strategy and Innovation and the Office of Informatics, NCIPC Divisions, and other CDC CIOs to increase efficiencies in collection, management, and usability of injury and violence data; (5) develops, maintains, and disseminates tabulations and maps from national, state, and local data on injury morbidity, mortality, economic costs, and risk and protective factors through CDC's WISQARS™ (Web-based Injury Statistics Query and Reporting system) and other NCIPC online tools; (6) develops, evaluates, and implements innovative statistical, economic, policy research, computer programming, and data science methods for application to injury surveillance, research studies, and program planning, and evaluation; (7) leads and collaborates with other scientists on epidemiologic studies and statistical and economic analyses and provides technical advice in the areas of study design, sampling, and the collection, management, analysis, and interpretation of injury and economic data; (8) produces high quality statistical, economic, and policy reports, publications, and presentations for dissemination, and; (9) leads and coordinates with the NCIPC Office of the Director and other Divisions on innovative pilot projects and scaling up promising strategies to utilize non-traditional datasets and novel methods for data collection and analysis in public health.

• Office of the Director (CUHG1). (1) Plans, directs, and evaluates the activities of the Division; (2) provides cross-cutting leadership and guidance in policy formation and program planning, development, implementation and evaluation for drug use and overdose prevention; (3) provides over-arching personnel, operational, administrative, fiscal, and technical support for Division programs and units; (4) assures multi-disciplinary collaboration in drug use and overdose prevention activities; (5) provides leadership for developing research in etiologic, epidemiologic, and behavioral aspects of drug use and overdose prevention, and for coordinating Division activities with others involved in related-work across NCIPC, CDC, DHHS, and other stakeholders; (6) in coordination with NCIPC OC, prepares and monitors clearance of manuscripts for publication in scientific and technical journals and publications, including articles and guidelines published in the Morbidity and Mortality Weekly Report (MMWR) and other publications for the public; (7) prepares, tracks, and coordinates controlled and general correspondence; (8) prepares responses and coordinates provision of materials requested by Center and Agency, leadership, Congress, and DHHS; (9) plans, develops, conducts, and evaluates cross-cutting communication projects and campaigns to inform the media, health professionals, the public, and others about drug use and overdose prevention; (10) provides media, communication, and marketing support to the Division; (11) serves as primary liaison between the Division and relevant NCIPC-OD Office, in the areas of communication, policy/partnership, science, administration/operations, informatics, and strategy/innovation; (12) designs, develops, and coordinates the publication of print and audiovisual materials such as fact sheets, newsletters, speeches and presentations, exhibits, social media messages, press releases, media advisories, and educational videos; (13) develops and evaluates messages, materials and health communication products to promote and disseminate scientific findings, evidence-based prevention strategies, priority recommendations, and guidelines through various platforms; (14) coordinates with NCIPC Office of Communications to execute and support NCIPC- and CDC-wide communication initiatives and policies related to overdose prevention; (15) coordinates with NCIPC Office of Policy and Partnerships to execute and support NCIPC- and CDC-wide policy and partner related initiatives related to overdose prevention; (16) collaborates with the Extramural Research Program Office on extramural research, policies, and procedures including peer review; (17) implements policies and procedures related to human subjects research protections, paperwork reduction act regulations, federal advisory committee act regulations, data sharing policies, and scientific authorship and misconduct; (18) supports scientific training opportunities, including the EIS training program; (19) collaborates, as appropriate, with non-governmental organizations, academic institutions, philanthropic foundations, and other stakeholders to achieve the mission of the Division, and; (20) coordinate and implement national prevention strategies, programs and policies in collaboration with state and local public health departments, community based organizations (CBOs) and other Branches, Centers/Institutes/Offices (CIOs), and Federal agencies.

• Drug-Free Communities Branch (CUHGE). (1) Provides programmatic leadership and support to communities/localities and community coalitions under the Drug-Free Communities (DFC) Support and the Comprehensive Addiction and Recovery Act Local Drug Crisis (CARA Local Drug Crisis) Grant Programs; (2) provides comprehensive technical assistance and project officer support to the grant award recipients and serves as a resource and collaborator to implement community-based youth substance use prevention interventions capable of effecting and sustaining community-level change and addressing local youth opioid, methamphetamine, and/or prescription medication abuse; (3) works with the grant award recipients to promote the seven Strategies for Community-Level Change (Provide Information, Enhance Skills, Provide Support, Enhance Access or Reduce Barriers, Change Consequences, Change Physical Design, Modify/Change Policies); (4) collaborates with staff across the Division, Center, and Agency to maximize opportunities and the subject matter expertise available for the implementation of the DFC Support and CARA Local Drug Crisis Grant Programs; (5) monitors and evaluates the outcomes of Division investments in communities/localities and community coalitions in concert with ONDCP using rigorous evaluation methods and widely disseminating findings to improve future programmatic activities; (6) synthesizes relevant research, evaluation findings, evidence, and trends to develop practical guidance and resources that enhance community-based youth substance use prevention programs, strategies, and activities and present this work at relevant scientific and professional conferences; (7) uses research findings to develop new strategies, policies, and interventions or to improve the impact of existing strategies, policies, and interventions to prevent and reduce youth substance use and associated risk factors and consequences, and; (8) provides direct support—as needed—to communities/localities and community coalitions to prevent youth substance use.

• Communications Branch (CUHGG). (1) Responsible for communication and marketing science, research, practice, and public affairs; (2) leads division strategic planning for communication and marketing science and public affairs programs and projects; (3) analyzes context, situation, and environment to inform division-wide communication and marketing programs and projects; (4) ensures use of scientifically sound research for marketing and communication programs and projects; (5) ensures accurate, accessible, timely, and effective translation of science for use by multiple audiences; (6) leads identification and implementation of information dissemination channels; (7) provides communication and marketing project management expertise; (8) collaborates with external organizations and the news, public service, and entertainment and other media to ensure that scientific findings and their implications for public health reach the intended audiences; (9) Collaborates closely with divisions to produce materials tailored to meet the requirements of news and other media channels, including press releases, letters to the editor, public service announcements, television programming, video news releases, and other electronic and printed materials; (10) coordinates the development and maintenance of accessible public information through the internet, social media and other applicable channels; (11) provides training and technical assistance in the areas of health communication, risk communication, social marketing, and public affairs; (12) manages or coordinates communication services such as internet/Intranet, application development, social media, video production, graphics, photography, CDC name/logo use and other brand management; (13) provides editorial services, including writing, editing, and technical editing; (14) facilitates internal communication to center staff and allied audiences; (15) supervises and manages Office of Communications activities, programs, and staff; (16) serves as liaison to internal and external groups to advance the center's mission; (17) collaborates with the CDC Office of the Associate Director for Communication on media relations, electronic communication, health media production, and brand management activities; (18) collaborates with the Office of Public Health Preparedness and Response and other NCEH & ATSDR entities to fulfill communication responsibilities in emergency response situations; (19) collaborates with other CDC Centers/Institute/Offices in the development of marketing communications targeted to populations that would benefit from a cross-functional approach, and; (20) ensures NCEH & ATSDR materials meet CDC and Department of Health and Human Services standards.

IV. Delegations of Authority: All delegations and redelegations of authority made to officials and employees of affected organizational components will continue in them or their successors pending further redelegation, provided they are consistent with this reorganization.

(Authority: 44 U.S.C. 3101)

Dated: October 8, 2020.
Alex M. Azar II,
Secretary.

[FR Doc. 2020-24602 Filed 11-4-20; 8:45 am]

BILLING CODE 4163-18-P